DEPARTMENT OF TRANSPORTATION

Federal Aviation Administration

14 CFR Part 39

[Docket No. FAA-2021-0718; Project Identifier MCAI-2020-00601-R; Amendment 39-21708; AD 2021-18-07]

RIN 2120-AA64

Airworthiness Directives; Leonardo S.p.a. Helicopters

AGENCY: Federal Aviation Administration (FAA), DOT.

ACTION: Final rule; request for comments.

SUMMARY: The FAA is adopting a new airworthiness directive (AD) for certain Leonardo S.p.a. Model AB412 and AB412 EP helicopters. This AD was prompted by the results of a fatigue review. This AD requires establishing a life limit for certain part-numbered high landing gear aft crosstubes. The FAA is issuing this AD to address the unsafe condition on these products.

DATES: This AD becomes effective September 20, 2021.

The FAA must receive comments on this AD by October 18, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Leonardo S.p.A. Helicopters, Emanuele Bufano, Head of Airworthiness, Viale G.Agusta 520, 21017 C.Costa di Samarate (Va) Italy; telephone +39-0331-225074; fax +39-0331-229046; or at https://customerportal.leonardocompany.com/en-US/. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0718; or in person at Docket Operations between 9 a.m. and 5 p.m., Monday through Friday, except Federal holidays. The AD docket contains this final rule, the European Aviation Safety Agency (now European Union Aviation Safety Agency) (EASA) AD, any comments received, and other information. The street address for Docket Operations is listed above.

FOR FURTHER INFORMATION CONTACT: Kenneth Cook, Airframe/Structural/Mechanical Engineer, Certification Section, Fort Worth ACO Branch, FAA, 10101 Hillwood Pkwy., Fort Worth, TX 76177; telephone (817) 222-5475; email kenneth.a.cook@faa.gov.

SUPPLEMENTARY INFORMATION:

Background

EASA, which is the Technical Agent for the Member States of the European Union, has issued EASA AD 2017-0097, dated June 7, 2017 (EASA AD 2017-0097), to correct an unsafe condition for AgustaWestland S.p.A. (formerly Agusta S.p.A., Costruzioni Aeronautiche Giovanni Agusta) Model AB412 and AB412EP helicopters with high skid landing gear assemblies part number (P/N) 412-050-012-(XXX), 412-050-014-(XXX), 412-050-050-(XXX), or 412-050-059-(XXX), where `XXX' represents any 3-digit combination, installed. EASA advises of the determination that a life limit must be introduced for certain high skid landing gear aft crosstubes following a fatigue review. Failure to comply with the new life limit could lead to the failure of the part, possibly resulting in damage of the helicopter and injuries to passengers.

Accordingly, EASA AD 2017-0097 requires implementation of the new life limit and revision of the Aircraft Maintenance Program (AMP).

FAA's Determination

These helicopters have been approved by EASA and are approved for operation in the United States. Pursuant to the FAA's bilateral agreement with the European Union, EASA has notified the FAA about the unsafe condition described in its AD. The FAA is issuing this AD after evaluating all known relevant information and determining that the unsafe condition described previously is likely to exist or develop on other helicopters of these same type designs.

Related Service Information

The FAA reviewed Leonardo Helicopters Emergency Alert Service Bulletin No. 412-151, Revision A, dated June 5, 2017. This service information specifies procedures for establishing a retirement life (life limit) of 10,000 landings for high landing gear aft crosstube P/Ns 412-050-010-101, 412-050-010-107, 412-050-010-111, and 412-050-045-107. This service information also specifies procedures for inspecting a high landing gear aft crosstube that has already exceeded the new retirement life to defer the initial retirement life replacement.

AD Requirements

For high landing gear aft crosstube P/Ns 412-050-010-101, 412-050-010-107, 412-050-010-111, and 412-050-045-107, this AD requires determining the total number of landings. For purposes of this AD, a landing is counted anytime a helicopter lifts off into the air and then lands again regardless of the duration of the landing and regardless of whether the engine is shutdown. If the total number of landings cannot be determined, this AD requires multiplying the total hours time-in-service accumulated by the high landing gear aft crosstube by 4. If the high landing gear aft crosstube has accumulated or exceeded 10,000 total landings, this AD requires removing the high landing gear aft crosstube from service. This AD also requires creating a component history card or equivalent record to establish a life limit of 10,000 total landings, and thereafter, removing any high landing gear aft crosstube from service before accumulating 10,000 total landings.

Differences Between This AD and the EASA AD

EASA AD 2017-0097 allows deferring the first replacement of a high landing gear aft crosstube that has accumulated 9,900 or more total landings as of the effective date of its AD by passing certain inspections, whereas this AD does not allow that deferral. EASA AD 2017-0097 requires revising the AMP and allows revision of the AMP as terminating action of its AD, whereas this AD does not contain those actions.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are no helicopters with these type certificates on the U.S. Registry. Accordingly, notice and opportunity for prior public comment are unnecessary, pursuant to 5 U.S.C. 553(b)(3)(B). In addition, for the foregoing reason(s), the FAA finds that good cause exists pursuant to 5 U.S.C. 553(d) for making this amendment effective in less than 30 days.

Comments Invited

The FAA invites you to send any written data, views, or arguments about this final rule. Send your comments to an address listed under ADDRESSES. Include “Docket No. FAA-2021-0718; Project Identifier MCAI-2020-00601-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kenneth Cook, Airframe/Structural/Mechanical Engineer, Certification Section, Fort Worth ACO Branch, FAA, 10101 Hillwood Pkwy., Fort Worth, TX 76177; telephone (817) 222-5475; email kenneth.a.cook@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

There are no costs of compliance with this AD because there are no helicopters with these type certificates on the U.S. Registry.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-18-07 Leonardo S.p.a.: Amendment 39-21708; Docket No. FAA-2021-0718; Project Identifier MCAI-2020-00601-R.

(a) Effective Date

This airworthiness directive (AD) is effective September 20, 2021.

(b) Affected ADs

None.

(c) Applicability

This AD applies to Leonardo S.p.a. Model AB412 and AB412 EP helicopters, certificated in any category, with a high skid landing gear assembly part number (P/N) 412-050-012-(XXX), 412-050-014-(XXX), 412-050-050-(XXX), or 412-050-059-(XXX), where “(XXX)” represents any 3-digit combination, installed.

(d) Subject

Joint Aircraft Service Component (JASC) Code: 3200, Landing Gear System.

(e) Unsafe Condition

This AD was prompted by the results of a fatigue review. The FAA is issuing this AD to prevent parts from remaining in service beyond their fatigue life. The unsafe condition, if not addressed, could result in failure of a part and subsequent damage to the helicopter and injuries to occupants.

(f) Compliance

Comply with this AD within the compliance times specified, unless already done.

(g) Required Actions

For high landing gear aft crosstube P/Ns 412-050-010-101, 412-050-010-107, 412-050-010-111, and 412-050-045-107:

(1) Before further flight after the effective date of this AD, determine the total number of landings. For purposes of this AD, a landing is counted anytime a helicopter lifts off into the air and then lands again regardless of the duration of the landing and regardless of whether the engine is shutdown. If the total number of landings cannot be determined, multiply the total hours time-in-service accumulated by the high landing gear aft crosstube by 4. Remove any high landing gear aft crosstube from service that has accumulated or exceeded 10,000 total landings.

(2) Create a component history card or equivalent record to establish a life limit of 10,000 total landings.

(3) Thereafter, remove any high landing gear aft crosstube from service before accumulating 10,000 total landings.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Kenneth Cook, Airframe/Structural/Mechanical Engineer, Certification Section, Fort Worth ACO Branch, FAA, 10101 Hillwood Pkwy., Fort Worth, TX 76177; telephone (817) 222-5475; email kenneth.a.cook@faa.gov.

(2) The subject of this AD is addressed in European Aviation Safety Agency (now European Union Aviation Safety Agency) (EASA) AD 2017-0097, dated June 7, 2017. You may view the EASA AD at https://www.regulations.gov in Docket No. FAA-2021-0718.

(j) Material Incorporated by Reference

None.

Issued on August 24, 2021.
Gaetano A. Sciortino,
Deputy Director for Strategic Initiatives, Compliance & Airworthiness Division, Aircraft Certification Service.

[FR Doc. 2021-19032 Filed 9-2-21; 8:45 am]

BILLING CODE 4910-13-P